INTER-AMERICAN FOUNDATION

Sunshine Act Meetings

TIME AND DATE: November 9, 2021, 9:30 a.m.-12:30 p.m.

PLACE: Via tele-conference.

STATUS: Annual Meeting of the IAF Board of Directors with the Advisory Council, open to the public.

MATTERS TO BE CONSIDERED:

Call to Order and Welcome from the Board Chair

FY21 Highlights

Management Report

New Business

Adjournment

CONTACT PERSON FOR MORE INFORMATION: Aswathi Zachariah, General Counsel, (202) 683-7118.

For Dial-in Information Contact: Karen Vargas, board liaison, (202) 524-8869.

The Inter-American Foundation is holding this meeting under the Government in the Sunshine Act, 5 U.S.C. 552(b).

Aswathi Zachariah,
General Counsel.

[FR Doc. 2021-23947 Filed 10-29-21; 11:15 am]

BILLING CODE 7025-01-P